DEPARTMENT OF AGRICULTURE

Rural Utilities Service

Berkeley Electric Cooperative; Notice of Finding of No Significant Impact

AGENCY: Rural Utilities Service, USDA.

ACTION: Notice of finding of no significant impact.

SUMMARY: Notice is hereby given that the Rural Utilities Service (RUS) has made a finding of no significant impact (FONSI) with respect to the construction of a 115/24.9 kV distribution substation by Berkeley Electric Cooperative. Berkeley Electric Cooperative may request financing assistance from the RUS to finance the construction of the substation.

FOR FURTHER INFORMATION CONTACT: Bob Quigel, Engineering and Environmental Staff, RUS, Stop 1571, 1400 Independence Avenue, SW, Washington, DC 20250-1571, telephone (202) 720-0468, e-mail at bquigel@rus.usda.gov.

SUPPLEMENTARY INFORMATION: The proposed substation will be located on a 18.4-acre site in Dorchester County, South Carolina, between Parkers Ferry Road and Ridge Road approximately 1000 feet east of the intersection of these two roads. The substation will cover approximately 7.5 acres of the site. The substation will be surrounded by a seven foot high chain link fence topped with three strands of barbed wire. A crushed stone driveway approximately 22 feet in width will be constructed from Ridge Road to the substation for access. The substation will be connected to an existing 115 kV transmission line which parallels Parkers Ferry Road. Approximately 500 feet of transmission line will be constructed to connect the substation to the transmission line.

Copies of the FONSI are available from RUS at the address provided herein or from Tom Meyers, Vice President of Engineering, Berkeley Electric Cooperative, 414 North Highway 52, Monks Corner, South Carolina 29461, telephone (843) 761-8200.

Dated: June 27, 2000.
Blaine D. Stockton, Jr.,
Assistant Administrator, Electric Program.

[FR Doc. 00-16655 Filed 6-29-00; 8:45 am]

BILLING CODE 3410-15-P